DEPARTMENT OF DEFENSE

Office of the Secretary

Meeting of the Uniform Formulary Beneficiary Advisory Panel; Amended Meeting Notice

AGENCY: Department of Defense (DoD), Assistant Secretary of Defense (Health Affairs).

ACTION: Amended Meeting Notice.

SUMMARY: Under the provisions of the Federal Advisory Committee Act of 1972 (5 U.S.C. Appendix 2) and the Government in the Sunshine Act of 1976 (5 U.S.C. 552b), and 41 CFR 102-3.150 the Department of Defense announces a change to the previously announced meeting of the Uniform Formulary Beneficiary Advisory Panel. The meeting notice published in the August 16, 2011 edition of the Federal Register (76 FR 50720) is changed to reflect a change in the meeting agenda. The current agenda item, Multiple Sclerosis is replaced with Phosphodiesterase-5 Inhibitors (PDE-5s). The Panel will review and comment on the Phosphodiesterase-5 Inhibitors, Non-Steroidal Anti-Inflammatory Drugs, Contraceptives, Designated Newly Approved Drugs in already reviewed classes and Pertinent Utilization Management Issues. All other aspects of the previously announced meeting agenda remain valid.

FOR FURTHER INFORMATION CONTACT: Mr. William H. Blanche, Alternate Designated Federal Officer, Uniform Formulary Beneficiary Advisory Panel, 2450 Stanley Road, Suite 208, Ft. Sam Houston, TX 78234-6102, Telephone: (210) 295-1271; Fax: (210) 295-2789, E-mail Address: Baprequests@tma.osd.mil.

Dated: August 31, 2011.
Aaron Siegel,
Alternate OSD Federal Register Liaison Officer, Department of Defense.

[FR Doc. 2011-22701 Filed 9-2-11; 8:45 am]

BILLING CODE 5001-06-P